NATIONAL AERONAUTICS AND SPACE ADMINISTRATION

[Notice 02-143]

NASA Advisory Council, Minority Business Resource Advisory Committee; Meeting

AGENCY: National Aeronautics and Space Administration (NASA).

ACTION: Notice of meeting.

SUMMARY: In accordance with the Federal Advisory Committee Act, Public Law 92-463, as amended, the National Aeronautics and Space Administration announces a forthcoming meeting of the NASA Advisory Council (NAC), Minority Business Resource Advisory Committee.

DATES: Thursday, December 12, 2002, 9 a.m. to 4 p.m., and Friday, December 13, 2002, 9 a.m. to 12 Noon.

ADDRESSES: NASA Headquarters, 300 E. Street, SW., Room 9H40, Washington, DC 20546.

FOR FURTHER INFORMATION CONTACT: Mr. Ralph C. Thomas III, Code K, National Aeronautics and Space Administration, (202) 358-2088.

SUPPLEMENTARY INFORMATION: The meeting will be open to the public up to the seating capacity of the room. The agenda for the meeting is as follows:

—Review of Previous Meeting

—Office of Small and Disadvantaged Business Utilization Update of Activities

—NAC Meeting Report

—Overview of Agency-wide initiatives

—Update of Small Business Program

—Public Comment

—Panel Discussion and Review

—Committee Panel Reports

—Status of Open Committee Recommendations

—New Business

It is imperative that the meeting be held on these dates to accommodate the scheduling priorities of the key participants. Visitors will be requested to sign a visitor's register.

June W. Edwards,
Advisory Committee Management Officer, National Aeronautics and Space Administration.

[FR Doc. 02-29773 Filed 11-21-02; 8:45 am]

BILLING CODE 7510-01-P